DEPARTMENT OF ENERGY

Environmental Management Site-Specific Advisory Board, Idaho Cleanup Project

AGENCY: Office of Environmental Management, Department of Energy.

ACTION: Notice of open in-person/virtual hybrid meeting.

SUMMARY: This notice announces an in-person/virtual hybrid meeting of the Environmental Management Site-Specific Advisory Board (EM SSAB), Idaho Cleanup Project (ICP). The Federal Advisory Committee Act requires that public notice of this meeting be announced in the Federal Register.

DATES: Wednesday, August 18, 2021; 3:00 p.m.-6:30 p.m.

The opportunity for oral public comment for those attending in-person is at 4:45 p.m. MTN and written public comment received prior to the meeting will be read into the record.

This time is subject to change; please contact the ICP Citizens Advisory Board (CAB) Administrator (below) for confirmation of time prior to the meeting.

ADDRESSES: This hybrid meeting is offered both virtually via Zoom and in-person. To attend virtually, please contact the ICP CAB Administrator (below) no later than 5:00 p.m. MTN on Monday, August 16, 2021.

Board members, Department of Energy (DOE) representatives, agency liaisons, and support staff will participate in-person at: Residence Inn by Marriott Idaho Falls, 635 W Broadway Street, Idaho Falls, ID 83402.

FOR FURTHER INFORMATION CONTACT: Jordan Davies, ICP CAB Administrator, by phone (720) 452-7379 or email jdavies@northwindgrp.com or visit the Board's internet homepage at https://energy.gov/em/icpcab.

SUPPLEMENTARY INFORMATION: Purpose of the Board: The purpose of the Board is to make recommendations to DOE-EM and site management in the areas of environmental restoration, waste management, and related activities.

Tentative Agenda (agenda topics may change up to the day of the meeting; please contact Jordan Davies for the most current agenda):

1. Recent Public Outreach

2. Idaho Cleanup Project Overview

3. Integrated Waste Treatment Unit (IWTU) Update

4. Westbay Well Rehabilitation Update

5. Spent Nuclear Fuel at the Idaho site

6. Indefinite Delivery Indefinite Quantity End State Contracting Model

Public Participation: The in-person/online virtual hybrid meeting is open to the public. Written statements may be filed with the Board no later than 5:00 p.m. MTN on Monday, August 16, 2021 or within seven days after the meeting by sending them to the ICP CAB Administrator at the aforementioned email address. Oral comments may be given by in-person attendees during the aforementioned time. The Deputy Designated Federal Officer is empowered to conduct the meeting in a fashion that will facilitate the orderly conduct of business. Individuals wishing to make or submit public comments should follow as directed above.

Minutes: Minutes will be available by writing or calling Jordan Davies, ICP CAB Administrator, phone (720) 452-7379 or email jdavies@northwindgrp.com. Minutes will also be available at the following website: https://energy.gov/em/icpcab.

Signed in Washington, DC, on July 28, 2021.
LaTanya Butler,
Deputy Committee Management Officer.

[FR Doc. 2021-16445 Filed 7-30-21; 8:45 am]

BILLING CODE 6450-01-P